DEPARTMENT OF THE TREASURY

Internal Revenue Service

26 CFR Part 31

Employment Taxes and Collection of Income Tax at Source

CFR Correction

In Title 26 of the Code of Federal Regulations, Parts 30 to 39, revised as of April 1, 2012, on page 301, in § 31.3406(b)(3)-2, in paragraph (b)(5), the language “§ 5f.6045-1(c)(3)(x)” is removed and “§ 1.6045-1(c)(3)(x)” is added in its place.

[FR Doc. 2013-07509 Filed 3-28-13; 8:45 am]

BILLING CODE 1505-01-D